DEPARTMENT OF VETERANS AFFAIRS

[OMB Control No. 2900-0515]

Agency Information Collection Activity: Maintenance of Records

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations on the proposed collection of information should be received on or before February 1, 2024. (Inserted by the Clearance Officer.)

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0515” in any correspondence.

FOR FURTHER INFORMATION CONTACT: Maribel Aponte, Office of Enterprise and Integration, Data Governance Analytics (008), 1717 H Street NW, Washington, DC 20006, (202) 266-4688 or email maribel.aponte@va.gov. Please refer to “OMB Control No. 2900-0515” in any correspondence.

SUPPLEMENTARY INFORMATION:

Authority: 38 CFR 36.4317.

Title: Maintenance of Records under 38 CFR 36.4333.

OMB Control Number: 2900-0515.

Type of Review: Revision of a currently approved collection.

Abstract: VA is submitting this revised information collection in advance of implementing new technology and oversight procedures in which VA will collect from lenders certain loan origination information via a computable electronic format.

The information collected under § 36.4333 is used by VA to ensure lenders and servicers who participate in VA's Loan Guaranty program follow statutory and regulatory requirements, such as those relating to credit information, loan processing requirements, underwriting standards, servicing requirements, and other applicable laws, regulations and policies. VA also uses data collected under this authority to provide annual feedback to lenders, through the Lender Scorecard, on certain loan characteristics such as interest rate, fees and charges, audit results, etc., as compared to the national average of all VA lenders.

The Federal Register Notice with a 60-day comment period soliciting comments on this collection of information was published at 88 FR 73421 on October 25, 2023, page 73421.

Affected Public: Private Sectors.

Estimated Annual Burden: 11,080 hours.

Estimated Average Burden per Respondent: 0.008 hours.

Frequency of Response: 2.9 times.

Estimated Number of Respondents: 1,385,000.

By direction of the Secretary.
Maribel Aponte,
VA PRA Clearance Officer, Office of Enterprise and Integration, Data Governance Analytics, Department of Veterans Affairs.

[FR Doc. 2023-28806 Filed 12-29-23; 8:45 am]

BILLING CODE 8320-01-P